DEPARTMENT OF THE TREASURY

Submission for OMB Review; Comment Request

May 6, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 14, 2004 to be assured of consideration.

Internal Revenue Service (IRS)

OMB Number: 1545-0773.

Regulation Project Number: TD 8172 Final.

Type of Review: Extension.

Title: Qualification of Trustee or Like Fiduciary in Bankruptcy.

Description: Internal Revenue Code (IRC) section 6036 requires executors or receivers to advise the district director of their appointment or authorization to act. This information is necessary so that IRS will know of the proceedings and who to contact for delinquent returns or taxes.

Respondents: Individuals or households.

Estimated Number of Respondents: 50,000.

Estimated Burden Hours Respondent: 15 minutes.

Frequency of response: Other (nonrecurring).

Estimated Total Reporting Burden: 12,500 hours.

OMB Number: 1545-0782.

Regulation Project Number: LR-7 (TD 6629) Final.

Type of Review: Extension.

Title: Limitation on Reduction in Income Tax Liability Incurred to the Virgin Islands.

Description: The Tax Reform Act of 1986 repealed the mandatory reporting and recordkeeping requirements of section 934(d) (1954 Code). The prior exception to the general rule of section 934 (1954 Code) to prevent the Government of the Virgin Islands from granting tax rebates with regard to taxes attributable to income derived from sources within the U.S. was contingent upon the taxpayers' compliance with reporting requirements of section 934(d).

Respondents: Individuals or households, Business or other for-profit.

Estimated Number of Respondents/Recordkeepers: 500.

Estimated Burden Hours Respondent/Recordkeeper: 22 minutes.

Frequency of response: On occasion.

Estimated Total Reporting/Recordkeeping Burden: 184 hours.

OMB Number: 1545-1138.

Regulation Project Number: INTL-955-86 Final.

Type of Review: Extension.

Title: Requirements for Investments to Qualify Under Section 936(d)(4) as Investments in Qualified Caribbean Basin Countries.

Description: The collection of information is required by the Internal Revenue Service to verify that an investment qualifies under IRC section 936(d)(4). The recordkeepers will be possession corporations, certain financial institutions located in Puerto Rico, and borrowers of funds covered by this regulation.

Respondents: Business or other for-profit.

Estimated Number of Recordkeepers: 50.

Estimated Burden Hours Recordkeeper: 30 hours.

Estimated Total Recordkeeping Burden: 1,500 hours.

OMB Number: 1545-1165.

Form Number: IRS Form 8821.

Type of Review: Extension.

Title: Tax Information Authorization.

Description: Form 8821 is used to appoint someone to receive or inspect certain tax information. Data is used to identify appointees and to ensure that confidential information is not divulged to unauthorized persons.

Respondents: Individuals or households, Business or other for-profit, Not-for-profit institutions, Farms.

Estimated Number of Respondents/Recordkeepers: 200,000.

Estimated Burden Hours Respondent/Recordkeeper:

Recordkeeping—6 min.

Learning about the law or the form—12 min.

Preparing the form—24 min.

Copying and sending the form to the IRS—20 min.

Frequency of response: On occasion.

Estimated Total Reporting/Recordkeeping Burden: 210,450 hours.

OMB Number: 1545-1255.

Regulation Project Number: INTL-870-89 NPRM.

Type of Review: Extension.

Title: Earnings Stripping (Section 163(j)).

Description: Certain taxpayers are allowed to write off the fixed basis of the stock of an acquired corporation rather than the adjusted basis of the assets of the acquired corporation to elect special treatment under section 163(j).

Respondents: Business or other for-profit.

Estimated Number of Respondents/Recordkeepers: 2,300.

Estimated Burden Hours Respondent/Recordkeeper: 31 minutes.

Frequency of response: Annually.

Estimated Total Reporting/Recordkeeping Burden: 1,196 hours.

OMB Number: 1545-1351.

Form Number: IRS Form 8833.

Type of Review: Extension.

Title: Treaty-Based Return Position Disclosure under Section 6114 or 7701(b).

Description: Form 8833 is used by taxpayers that are required by section 6114 to disclose a treaty-based return position to disclose that position. The form may also be used to make the treaty-based position disclosure required by regulations section 301.7701(b)-7(b) for “dual resident” taxpayers.

Respondents: Business or other for-profit, Individuals or households.

Estimated Number of Respondents/Recordkeepers: 6,000.

Estimated Burden Hours Respondent/Recordkeeper:

Recordkeeping—3 hr., 6 min.

Learning about the law or the form—1 hr., 35 min.

Preparing and sending the form to the IRS—1 hr., 42 min.

Frequency of response: Annually.

Estimated Total Reporting/Recordkeeping Burden: 38,460 hours.

OMB Number: 1545-1433.

Regulation Project Numbers: CO-11-91 Final and CO-24-95 Final.

Type of Review: Extension.

Title: CO-11-91 Final: Consolidated Groups and Controlled Groups—Inter-company Transactions and Related Rules; and CO-24-95 Final: Consolidated Groups—Inter-company Transactions and Related Rules.

Description: The regulations require common parents that make elections under Section 1.1502-13 to provide certain information. The information will be used to identify and assure that the amount, location, timing and attributes of inter-company transactions and corresponding items are properly maintained.

Respondents: Business or other for-profit.

Estimated Number of Respondents/Recordkeepers: 2,200.

Estimated Burden Hours Respondent/Recordkeeper: 29 minutes.

Frequency of response: Occasionally.

Estimated Total Reporting/Recordkeeping Burden: 1,050 hours.

OMB Number: 1545-1576.

Form Number: IRS Form 1098-E.

Type of Review: Extension.

Title: Student Loan Interest Statement.

Description: Section 6050S(b)(2) of the Internal Revenue Code requires persons (financial institutions, governmental units, etc.) to report $600 or more of interest paid on student loans to the IRS and the students.

Respondents: Individuals or households, Business or other for-profit, Not-for-profit institutions, State, Local or Tribal Government.

Estimated Number of Respondents/Recordkeepers: 200,000.

Estimated Burden Hours Respondent/Recordkeeper: 7 minutes.

Frequency of response: Annually.

Estimated Total Reporting/Recordkeeping Burden: 1,051,357 hours.

OMB Number: 1545-1748.

Regulation Project Number: REG-106917-99 Final.

Type of Review: Extension.

Title: Changes in Accounting Periods.

Description: Section 1.441-2(b)(1) requires certain taxpayers to file statements on their federal income tax returns to notify the Commissioner of the taxpayers' election to adopt a 52-53-week taxable year. Section 1.442-1(b)(4) provides that certain taxpayers must establish books and records that clearly reflect income for the short period involved when changing their taxable year to a fiscal taxable year. Section 1.442-1(d) requires a newly married husband or wife to file a statement with their short period return when changing to the other spouse's taxable year.

Respondents: Business or other for-profit, Individuals or households.

Estimated Number of Respondents/Recordkeepers: 1,000.

Estimated Burden Hours Respondent/Recordkeeper: 30 minutes.

Frequency of response: On occasion.

Estimated Total Reporting/Recordkeeping Burden: 500 hours.

OMB Number: 1545-1878.

Form Number: IRS Form 8879-EO.

Type of Review: Extension.

Title: IRS e-file Signature Authorization for an Exempt Organization.

Description: Form 8879-EO authorizes an officer of an exempt organization and electronic return originator (ERO) to sue a personal identification number (PIN) to electronically sign an organization's electronic income tax return and, if applicable, Electronic Funds Withdrawal Consent.

Respondents: Not-for-profit institutions.

Estimated Number of Respondents/Recordkeepers: 800.

Estimated Burden Hours Respondent/Recordkeeper:

Recordkeeping—3 hr., 35 min.

Learning about the law or the form—12 min.

Preparing the form—15 min.

Frequency of response: Annually.

Estimated Total Reporting/Recordkeeping Burden: 3,240 hours.

OMB Number: 1545-1879.

Form Number: IRS Form 8453-EO.

Type of Review: Extension.

Title: Exempt Organization Declaration ad Signature for Electronic Filing.

Description: Form 8453-EO is used to enable the electronic filing of Forms 990, 990-EZ, or 1120-POL.

Respondents: Not-for-profit institutions.

Estimated Number of Respondents/Recordkeepers: 200.

Estimated Burden Hours Respondent/Recordkeeper:

Recordkeeping—4 hr., 18 min.

Learning about the law or the form—12 min.

Preparing, copying, assembling, and sending the form to the IRS—16 min.

Frequency of response: Annually.

Estimated Total Reporting/Recordkeeping Burden: 956 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-10915 Filed 5-13-04; 8:45 am]

BILLING CODE 4830-01-P